DEPARTMENT OF TRANSPORTATION

Federal Highway Administration

Notice of Final Federal Agency Actions on Proposed Highway in California

AGENCY: Federal Highway Administration (FHWA), DOT.

ACTION: Notice of limitation on claims for judicial review of actions by the California Department of Transportation (Caltrans), pursuant to 23 U.S.C. 327 and other Federal agencies.

SUMMARY: The FHWA, on behalf of Caltrans, is issuing this notice to announce actions taken by Caltrans, that are final within the meaning of 23 U.S.C. 139(l)(1). The actions relate to a proposed highway project on northbound Interstate 680 from south of State Route (SR) 237 (Calaveras Boulevard) to north of SR 84 (Vallecitos Road) in or near the cities of Milpitas, Fremont, and Pleasanton, and the community of Sunol in Santa Clara and Alameda Counties in the State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before January 19, 2016. If the Federal law that authorizes judicial review of a claim provides a time period of less than 150 days for filing such claim, then that shorter time period still applies.

FOR FURTHER INFORMATION CONTACT: For Caltrans: Wahida Rashid, Branch Chief, Office of Environmental Analysis, Ill Grand Avenue, Oakland, CA 94612, during normal business hours from 9 a.m. to 4 p.m., telephone (510) 286-5935, or email wahida.rashid@dot.ca.gov. For USFWS: John Cleckler, Caltrans Liaison, U.S. Fish and Wildlife Service, 2800 Cottage Way, Suite W-2605, Sacramento, CA 95825-1846, (916) 414-6600, email john clecklerialfws.gov.

SUPPLEMENTARY INFORMATION: Effective July 1, 2007, the Federal Highway Administration (FHWA) assigned, and the California Department of Transportation (Caltrans) assumed, environmental responsibilities for this project pursuant to 23 U.S.C. 327. Notice is hereby given that Caltrans has taken final agency actions subject to 23 U.S.C. 139(l)(1) by issuing licenses, permits, and approvals for the 1-680 Northbound HOV/Express Lane project in the State of California: The project proposes an approximately 15-mile HOV/express lane from south of SR 237 (post mile 6.5) in Santa Clara County to north of SR 84 (post mile 12.4) in Alameda County. The HOV/express lane would be a specially-designated freeway lane that is free for carpools and other eligible users, but also gives single-occupancy-vehicles the option to pay tolls to use the HOV/express lane. The actions by the Federal agencies, and the laws under which such actions were taken, are described in the Final Environmental Assessment (EA)/Finding of No Significant Impact (FONSI) for the project, approved on July 28, 2015. The EAIFONSI, and other project records are available by contacting Caltrans at the address provided above. The Caltrans EA and FONSI can be viewed and downloaded from the project Web site at http://www.dot.ca.gov/dist4/envdocs.htm.

The USFWS decision and Biological Opinion are available by contacting USFWS at the address provided above. This notice applies to all Federal agency decisions as of the issuance date of this notice and all laws under which such actions were taken, including but not limited to

1. Council on Environmental Quality Regulations

2. National Environmental Policy Act of 1969, as amended, 42 U.S.C. 4321 et seq.

3. Executive Order 12898, Federal Actions to Address Environmental Justice and Low-Income Populations

4. Title VI of the Civil Rights Act of 1964, as amended

5. National Historic Preservation Act (NHPA) of 1966, as amended

6. Executive Order 11988, Floodplain Management

7. Clean Water Act of 1977 and 1987

8. Federal Clean Air Act

9. Federal-Aid Highway Act of 1970 (23 CFR 772)

10. Federal Endangered Species Act

11. Migratory Bird Treaty Act

12. Executive Order 13112, Invasive Species

(Catalog of Federal Domestic Assistance Program Number 20.205, Highway Planning and Construction. The regulations implementing Executive Order 12372 regarding intergovernmental consultation on Federal programs and activities apply to this program.)

Authority: 23 U.S.C. 139(l)(1)

Matthew Schmitz,
Director, Project Delivery, Federal Highway Administration, Sacramento, California.

[FR Doc. 2015-20559 Filed 8-19-15; 8:45 am]

BILLING CODE 4910-RY-P